DEPARTMENT OF COMMERCE

International Trade Administration

[A-570-919]

Electrolytic Manganese Dioxide From the People's Republic of China: Rescission of the Antidumping Duty Administrative Review; 2018-2019

AGENCY: Enforcement and Compliance, International Trade Administration, Department of Commerce.

SUMMARY: The Department of Commerce (Commerce) is rescinding this review. The period of review (POR) is October 1, 2018, through September 30, 2019.

DATES: Applicable July 14, 2021.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On February 23, 2021, Commerce published its preliminary rescission of this administrative review in the Federal Register and invited parties to comment thereon.¹ For a discussion of events subsequent to the Preliminary Recission, see the Issues and Decision Memorandum.² On June 21, 2021, Commerce extended the deadline for issuing the final results of this review until July 14, 2021.³

¹ See Electrolytic Manganese Dioxide from the People's Republic of China: Preliminary Rescission of the Antidumping Duty Administrative Review; 2018-2019, 86 FR 10925 (February 23, 2021) (Preliminary Rescission).

² See Memorandum, “Issues and Decision Memorandum for the Final Results of the 2018-2019 Antidumping Duty Administrative Review of Electrolytic Manganese Dioxide from the People's Republic of China,” dated concurrently with, and hereby adopted by, this notice (Issues and Decision Memorandum).

³ See Memorandum, “Electrolytic Manganese Dioxide from the People's Republic of China: Antidumping Duty Administrative Review; 2018-2019; Extension of Deadline for Final Results,” dated June 21, 2021.

Scope of the Order

The merchandise covered by the order includes all manganese dioxide (MnO2) that has been manufactured in an electrolysis process, whether in powder, chip, or plate form. Excluded from the scope are natural manganese dioxide (NMD) and chemical manganese dioxide (CMD). The merchandise subject to the order is classified in the Harmonized Tariff Schedule of the United States (HTSUS) at subheading 2820.10.00.00. While the HTSUS subheading is provided for convenience and customs purposes, the written description of the scope of the order is dispositive.

Analysis of the Comments Received

We addressed the issues raised in the case and rebuttal briefs that were submitted in this review in the Issues and Decision Memorandum. A list of the sections in the Issues and Decision Memorandum is in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html.

Rescission of Administrative Review

As discussed in the Issues and Decision Memorandum, Duracell (China) Limited (DCL), the sole company under review reported that neither it, nor its U.S. affiliates, sold subject merchandise or further manufactured subject merchandise (i.e., batteries containing subject merchandise) to unaffiliated U.S. customers during the POR. Moreover, Commerce determined that DCL did not adequately demonstrate that it could trace the POR entry of subject merchandise, which was used to manufacture batteries in the United States, to particular batteries that were sold to unaffiliated U.S. customers after the end of the POR. Therefore, we have determined that there are no reviewable sales with which to calculate a dumping margin and we have rescinded this review.⁴

⁴ See 19 CFR 351.213(d)(3).

Assessment

We intend to instruct U.S. Customs and Border Protection (CBP) to liquidate POR entries of subject merchandise from DCL at the rate applicable at the time of entry into the United States, which is the China-wide entity rate (i.e., 149.92 percent).

Consistent with its recent notice,⁵ Commerce intends to issue assessment instructions to CBP no earlier than 35 days after the date of publication of this notice in the Federal Register. If a timely summons is filed at the U.S. Court of International Trade, the assessment instructions will direct CBP not to liquidate relevant entries until the time for parties to file a request for a statutory injunction has expired (i.e., within 90 days of publication).

⁵ See Preliminary Rescission.

Cash Deposit Requirements

Because we rescinded this administrative review, we have not calculated a company-specific dumping margin for DCL. Therefore, entries of DCL's subject merchandise continue to be subject to the China-wide cash deposit rate of 149.92 percent. This cash deposit rate requirement shall remain in effect until further notice.

Administrative Protective Order

This notice also serves as a reminder to parties subject to Administrative Protective Order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a sanctionable violation.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act.

Dated: July 7, 2021.
James Maeder,
Deputy Assistant Secretary for Antidumping and Countervailing Duty Operations.

Appendix

List of Sections in the Issues and Decision Memorandum

I. Summary

II. Background

III. Discussion of the Issues

Comment 1: Whether Commerce Should Rescind the Administrative Review

Comment 2: Whether DCL Has Linked its POR Entry to Post-POR Sale

V. Recommendation

[FR Doc. 2021-14895 Filed 7-13-21; 8:45 am]

BILLING CODE 3510-DS-P